SECURITIES AND EXCHANGE COMMISSION

[File No. 500-1]

In the Matter of BVR Technologies Ltd. (n/k/a Technoprises Ltd.), Crystal Graphite Corp., Devine Entertainment Corp., GEE TEN Ventures, Inc., National Construction, Inc. (n/k/a E.G. Capital, Inc.), SHEP Technologies, Inc., and WHEREVER.Net Holding Corp.; Order of Suspension of Trading

May 13, 2010.

It appears to the Securities and Exchange Commission that there is a lack of current and accurate information concerning the securities of BVR Technologies Ltd. (n/k/a Technoprises Ltd.) because it has not filed any periodic reports since the period ended December 31, 2004.

It appears to the Securities and Exchange Commission that there is a lack of current and accurate information concerning the securities of Crystal Graphite Corp. because it has not filed any periodic reports since the period ended August 31, 2004.

It appears to the Securities and Exchange Commission that there is a lack of current and accurate information concerning the securities of Devine Entertainment Corp. because it has not filed any periodic reports since the period ended September 30, 2008.

It appears to the Securities and Exchange Commission that there is a lack of current and accurate information concerning the securities of GEE TEN Ventures, Inc. because it has not filed any periodic reports since the period ended May 31, 2004.

It appears to the Securities and Exchange Commission that there is a lack of current and accurate information concerning the securities of National Construction, Inc. (n/k/a E.G. Capital, Inc.) because it has not filed any periodic reports since the period ended February 28, 2003.

It appears to the Securities and Exchange Commission that there is a lack of current and accurate information concerning the securities of SHEP Technologies, Inc. because it has not filed any periodic reports since the period ended December 31, 2004.

It appears to the Securities and Exchange Commission that there is a lack of current and accurate information concerning the securities of WHEREVER.Net Holding Corp. because it has not filed any periodic reports since it filed a Form 8-A on April 26, 2000.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on May 13, 2010 and terminating at 11:59 p.m. EDT on May 26, 2010.

By the Commission.
Jill M. Peterson,
Assistant Secretary.

[FR Doc. 2010-11806 Filed 5-13-10; 11:15 am]

BILLING CODE 8011-01-P